COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products to the Procurement List that will be furnished by nonprofit agencies employing persons who are blind or have other severe disabilities.

DATES: Effective Date: 12/9/2013.

ADDRESSES: Committee for Purchase From People Who Are Blind or Severely Disabled, 1401 S. Clark Street, Suite 10800, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 8/23/2013 (78 FR 52512-52513), 8/30/2013 (78 FR 53734), and 9/6/2013 (78 FR 54871), the Committee for Purchase From People Who Are Blind or Severely Disabled published notices of proposed additions to the Procurement List.

After consideration of the material presented to it concerning capability of qualified nonprofit agencies to furnish the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

Products

NSN: MR 377—Socks, Holiday.

NSN: MR 382—Duct Tape, Holiday Themed, Assorted Colors.

NSN: MR 10635—Serving Platter, Heavy Duty, Raised Surface, Fall Themed, White.

NPA: Winston-Salem Industries for the Blind, Inc., Winston-Salem, NC.

Contracting Activity: DEFENSE COMMISSARY AGENCY, FORT LEE, VA.

COVERAGE: C-List for the requirements of military commissaries and exchanges as aggregated by the Defense Commissary Agency.

NSN: 6645-00-NIB-0141—Clock, Wall, Quartz Movement, 14.5″.

NSN: 6645-00-NIB-0143—Clock, Wall, Self-Set Movement, 14.5″.

NSN: 6645-00-NIB-0145—Clock, Wall, Quartz Movement, 16.5″.

NSN: 6645-00-NIB-0147—Clock, Wall, Self-Set Movement, 16.5″.

COVERAGE: A-List for the Total Government Requirement as aggregated by the General Services Administration.

NSN: 6645-00-NIB-0142—Clock, Wall, Quartz Movement, Customizable Logo, 14.5″.

NSN: 6645-00-NIB-0144—Clock, Wall, Self-Set Movement, Customizable Logo, 14.5″.

NSN: 6645-00-NIB-0146—Clock, Wall, Quartz Movement, Customizable Logo, 16.5″.

NSN: 6645-00-NIB-0148—Clock, Wall, Self-Set Movement, Customizable Logo, 16.5″.

NSN: 6645-00-NIB-0149—Clock, Wall, Quartz Movement, 15.5″.

NSN: 6645-00-NIB-0150—Clock, Wall, Quartz Movement, Customizable Logo, 15.5″.

NSN: 6645-00-NIB-0151—Clock, Wall, Self-Set Movement, 15.5″.

NSN: 6645-00-NIB-0152—Clock, Wall, Self-Set Movement, Customizable Logo, 15.5″.

COVERAGE: B-List for the Broad Government Requirement as aggregated by the General Services Administration.

NPA: The Chicago Lighthouse for People Who Are Blind or Visually Impaired, Chicago, IL.

Contracting Activity: GENERAL SERVICES ADMINISTRATION, NEW YORK, NY.

NSN: 7520-00-NIB-0357—Kit, Mounting Board, GHS, SDS Information Center.

NSN: 7520-00-NIB-0360—Binder, GHS, Safety Data Sheets.

COVERAGE: A-List for the Total Government Requirement as aggregated by the General Services Administration.

NSN: 7520-00-NIB-0358—Kit, Mounting Board, GHS Information Center.

NSN: 7520-00-NIB-0359—Binder with Wire Rack Holder, GHS, Safety Data Sheets.

COVERAGE: B-List for the Broad Government requirement as aggregated by the General Services Administration.

NPA: Association for the Blind and Visually Impaired—Goodwill Industries of Greater Rochester, Rochester, NY.

Contracting Activity: GENERAL SERVICES ADMINISTRATION, NEW YORK, NY.

Barry S. Lineback,
Director, Business Operations.

[FR Doc. 2013-26805 Filed 11-7-13; 8:45 am]

BILLING CODE 6353-01-P